DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 10, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: EmpowHR/Person Model Non-Employee Data Sheet—FNS Form-775.

OMB Control Number: 0584-NEW.

Summary of Collection: The U.S. Department of Agriculture, Food and Nutrition Service, Human Resources Division FNS 775 EmpowHR/Person Model collects the required biographic data personal identifiable information (PII) such as full legal name, address, phone, social security number, birthdate, place of birth, country of citizenship is required to input into the USDA system of record, Empower Human Resources (EmpowHR), so that upon submission, it conforms to the data requirements set forth by USAccess.

Legal authority for gathering of data fields mentioned above comes from the Homeland Security Presidential Directive 12.

Need and Use of the Information: The data collected on the FNS 775 EmpowHR/Person Model sheet is used to input data for individuals who are employees' contractors, interns, or volunteers. The data collected (full legal name, address, phone, social security number, birthdate, place of birth, country of citizenship) is than input to the System of Record, EmpowHR. The personal identifiable information (PII) data collected is for the specific purpose of sponsorship for the agency's PIV (Personal Identity Verification) credential and will be used during background investigation as required for access to agency facilities, systems, and information.

Description of Respondents: Individuals or households and Business (Contractors, Interns, Volunteers, recently hired employees).

Number of Respondents: 750.

Frequency of Responses: Reporting: Other (as desired).

Total Burden Hours: 375.

Ruth Brown,
Departmental Information Collection Clearance Officer.

[FR Doc. 2023-12264 Filed 6-7-23; 8:45 am]

BILLING CODE 3410-30-P